SMALL BUSINESS ADMINISTRATION

[Disaster Declaration #14503 and #14504]

Washington Disaster Number WA-00060

AGENCY: U.S. Small Business Administration.

ACTION: Amendment 1.

SUMMARY: This is an amendment of the Presidential declaration of a major disaster for Public Assistance Only for the State of Washington (FEMA-4242- DR), dated 10/15/2015.

Incident: Severe Windstorm.

Incident Period: 08/29/2015.

DATES: Effective Date: 10/29/2015.

Physical Loan Application Deadline Date: 12/14/2015.

Economic Injury (EIDL) Loan Application Deadline Date: 07/15/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of WASHINGTON, dated 10/15/2015, is hereby amended to include the following areas as adversely affected by the disaster.

Primary Counties: Clallam, Grays Harbor, Whatcom.

All other information in the original declaration remains unchanged.

(Catalog of Federal Domestic Assistance Numbers 59002 and 59008)

James E. Rivera,
Associate Administrator, for Disaster Assistance.

[FR Doc. 2015-28462 Filed 11-6-15; 8:45 am]

BILLING CODE 8025-01-P